DEPARTMENT OF TRANSPORTATION

Federal Highway Administration

[Docket No. FHWA-2019-0035]

Agency Information Collection Activities: Notice of Request for Reinstatement of a Previously Approved Information Collection

AGENCY: Federal Highway Administration (FHWA), DOT.

ACTION: Notice of request for extension of currently approved information collection.

SUMMARY: The FHWA invites public comments about our intention to request the Office of Management and Budget's (OMB) approval for renewal of an existing information collection that is summarized below under SUPPLEMENTARY INFORMATION. We are required to publish this notice in the Federal Register by the Paperwork Reduction Act of 1995.

DATES: Please submit comments by January 17, 2020.

ADDRESSES: You may submit comments identified by DOT Docket ID Number 2020-0035 by any of the following methods:

Website: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue SE, Washington, DC 20590.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Daniel Jenkins, 202-366-1067, daniel.jenkins@dot.gov, National Travel Behavior Data Program Manager, Federal Highway Administration, Office of Policy,1200 New Jersey Avenue SE, Room E83-414, Washington, DC 20590, Monday through Friday, except Federal holidays.

SUPPLEMENTARY INFORMATION: Title: Next Generation National Household Travel Survey (Next Gen NHTS).

Type of Request: New request for periodic information collection requirement.

Background: Title 23, United States Code, Section 502 authorizes the USDOT to carry out advanced research and transportation research to measure the performance of the surface transportation systems in the US, including the efficiency, energy use, air quality, congestion, and safety of the highway and intermodal transportation systems. The USDOT is charged with the overall responsibility to obtain current information on national patterns of travel, which establishes a data base to better understand travel behavior, evaluate the use of transportation facilities, and gauge the impact of the USDOT's policies and programs.

The NHTS is the USDOT's authoritative nationally representative data source for daily passenger travel. This inventory of travel behavior reflects travel mode (e.g., private vehicles, public transportation, walk and bike) and trip purpose (e.g., travel to work, school, recreation, personal/family trips) by U.S. household residents. Survey results are used by federal and state agencies to monitor the performance and adequacy of current facilities and infrastructure, and to plan for future needs.

The collection and analysis of national transportation data has been of critical importance for half a century. Previous surveys were conducted in 1969, 1977, 1983, 1990, 1995, 2001, 2009, and 2017. The current survey will be the ninth in this series, and allow researchers, planners, and officials at the state and federal levels to monitor travel trends.

Data from the NHTS are widely used to support research needs within the USDOT, and State and local agencies, in addition to responding to queries from Congress, the research community and the media on important issues. Current and recent topics of interest include:

• Travel to work patterns by transportation mode for infrastructure improvements and congestion reduction,

• Access to public transit, paratransit, and rail services by various demographic groups,

• Measures of travel by mode to establish exposure rates for risk analyses,

• Support for Federal, State, and local planning activities and policy evaluation,

• Active transportation by walk and bike to establish the relationship to public health issues,

• Vehicle usage for energy consumption analysis,

• Traffic behavior of specific demographic groups such as Millennials and the aging population.

Within the USDOT, the Federal Highway Administration (FHWA) holds responsibility for technical and funding coordination. The National Highway Traffic Safety Administration (NHTSA), Federal Transit Administration (FTA), and the Bureau of Transportation Statistics (BTS) are also primary data users, and have historically participated in project planning and financial support.

Proposed Data Acquisition Methodology

NHTS data are collected from a probability-based sample comprised of a representative mixture of households with respect to various geodemographic characteristics. For this purpose, a previously recruited national panel will serve as the sampling frame. Email invitations which will include a link to an online household survey will be sent to selected panel members requesting some basic demographic and contact information inviting them to participate in the survey. The invitation email will mention the purpose of the study, underline the voluntary nature of survey participation, provide some information about incentives, and contain the link that will take respondents directly into the survey. KnowledgePanel members can also access the online survey by logging into their specific KnowledgePanel home page, where they will find a hyperlink to surveys for which they have been selected.

Email reminders will be sent periodically to households who do not respond within the expected timeframe. Monetary incentives will be provided for all households that complete the survey. As the burden is higher for those in households with more people they will receive a larger incentive amount. Households with 3 or fewer eligible members (i.e., 5 years of age or older) will receive $5 when all householders complete the travel survey. Households with 4 or more eligible members will receive $10 for when all householders complete the travel survey.

The household will be considered completed when 75% or more of household members complete a trip diary with 25% or fewer item nonresponse. We will emphasize direct reporting procedures in the instructions, but allow for proxy reporting as a second-best option.

The survey will collect data during an entire 12 month period so that all 365 days of the year including weekends and holidays are accounted for. To maximize the accuracy of the recall information and to provide coverage for every day of the year, all retrieval surveys will collect information about the travel during previous 24 hours. A total of 7,500 households will comprise the national sample for the 2020 data collection. As described below, changes in the establishment of the sampling frame, the promotion of participation, and in data retrieval techniques are planned, as compared to previous surveys, to improve statistical precision, enhance response rates, and increase survey efficiency.

Issues Related to Sampling. In previous years, the household sample was identified using random digit dialing (RDD) techniques. Today, only 54 percent ¹ have a landline telephone in the home (down from 75% during the 2009 NHTS) while nearly 88 percent of US households have access to the internet ²—although estimate of internet access are subject to various measurement challenges due to the many different ways household members can gain access to the web. This survey will leverage this shift in technology, in particular the move away from home telephone usage, to structure a research design that uses web data collection methods.

¹ Blumberg, S.J., and Luke, J.V. (2018). Wireless substitution: Early release of estimates from the National Health Interview Survey, July—December 2017. National Center for Health Statistics. Available from http://www.cdc.gov/nchs/nhis.htm.

² Source: Internet World Stats, 2017. https://www.internetworldstats.com/stats14.htm#north.

In 2020, the NHTS is moving to an online probability-based sample approach. The sample will be drawn from a panel which is representative of the national population. This approach allows for a better response rate, making the NHTS data representative of the nation's travel behavior, while lowering the burden on responding households. This is a change from the national address-based sample (ABS), and the telephone-based random digit dialing (RDD) sample design used in recent NHTS efforts, while also incorporating core data elements that have been part of the NHTS since 1969.

The panel is constructed by drawing from the USPS Delivery Sequence File (DSF), which include all points of delivery in the US. The needed address samples are obtained from Marketing Systems Group (MSG) that provides the ability to match various auxiliary variables to the DSF prior to sample selection. By geocoding the entire sampling frame, MSG can append block-, block group-, and tract-level characteristics from the Decennial Census and the American Community Survey (ACS) to each delivery point.

Sample Size. In total, completed surveys will be secured for a nationally representative sample of 7,500 households for the national sample. Accounting for the various nonresponse and incompleteness rates, however, we anticipate needing a starting sample of about 29,000 households to secure the desired number of completed surveys.

Stratification. The sample for this survey will be designed to ensure broad coverage of the 50 states to produce the most efficient estimates at the national level, as well as those needed for urban and rural areas. Assuming equal costs and population variances across all areas, the most efficient design is one in which the total sample is allocated in proportion to the size of the civilian, noninstitutionalized population in each area. In contrast, the most efficient design for area-level estimates is one in which equal sample sizes are allocated to each area. While different sample allocation options for the national sample are being considered in order to arrive at a final allocation for the NHTS national sample, unless required, otherwise throughout this document it will be assumed that the national sample of 7,500 households will be selected based on a proportional allocation without any geographic oversampling.

Given the availability of a rich reservoir of profile data for all panel members, with the panel approach identifying targeted areas (e.g., urban/rural) that correspond to those for which efficient estimates are needed will be rather straightforward. Moreover, with this approach ambiguities related to addresses that are P.O. boxes or those remaining as simplified (void of delivery details) will be rendered moot.

It should be noted that regardless of the sample allocation plan that will be finalized for the 2020 survey, assignments for recording travel data by sampled households will be equally distributed across all days to ensure an approximately balanced day of week distribution. To this end, the sample will be released periodically through a process that will control the balance of travel days by month.

Data Collection Methods

The questionnaire for this survey will be designed to be relevant, aesthetically pleasing, and elicit participation by including topics of importance to the respondents.

Information Proposed for Collection

Recruitment and retrieval. The survey will begin with emailing the sampled households an invitation to the study. The primary household respondent will complete a short household roster to collect key household information (e.g., enumeration of household members. Once the household roster is complete, the respondent will proceed to a travel diary pre-populated for each eligible member of the household.

Household travel diary. All travel information about a specific day from every household member 5 years of age and older will be collected using the online travel diary.

Once the household roster is completed, the primary household respondent will complete his or her diary and will serve as a proxy responder for all children 5-15 years old in the household. Household members 16 and older will be invited to complete their own online diaries. If they fail to do so in a reasonable amount of time after multiple reminders, the primary household member may be re-contacted to serve as a proxy for non-responding teens and adults in the household.

The household travel diary will be based upon a single database that allows for sophisticated branching and skip patterns to enhance data retrieval by asking only those questions that are necessary and appropriate for the individual participant. Look-up tables are included to assist with information such as vehicle makes and models. The Google map API will be used to assist in identifying specific place names and locations. The location data for the participant's home, workplace, or school are stored and automatically inserted in the dataset for trips after the first report. Household rostering is a list of all persons in the household that allows a trip to be reported from one household member and can include another household member who travel together to be inserted into the record for the second person. This automatic insert of information reduces the burden of the second respondent to be queried about a trip already reported by the initial respondent.

Data range, consistency and edit checks will be automatically programmed to reduce reporting error, survey length, and maintain the flow of information processing. Data cross checks also help reduce the burden by ensuring that the reporting is consistent within each trip.

Estimated Burden Hours for Information Collection

Frequency: This collection will be conducted every 2-4 years in the future.

Respondents. As mentioned earlier, a nationally representative random sample of 7,500 households across the 50 states and the District of Columbia will be included in this survey. Given that household will include an average of 2.5 members 5-years of age or older, travel data for a total of 18,750 individual respondents will be collected for the main survey.

Estimated Average Burden per Response. It will take approximately 5 minutes to complete the roster data form, and 15 minutes to complete the retrieval survey. This results in a total of 20 minutes for the first household member and 15 minutes per additional household member.

Estimated Total Annual Burden Hours. It is estimated that a total of 18,750 persons will be included in the survey. This would result in approximately 5,312.5 hours of support for this data collection effort, assuming an average of 17 minutes per person across the roster survey and retrieval survey.

Public Comments Invited

You are asked to comment on any aspect of this information collection, including: (1) Whether the proposed collection of information is necessary for the USDOT's performance, including whether the information will have practical utility; (2) the data acquisition methods; (3) the accuracy of the USDOT's estimate of the burden of the proposed information collection; (4) the types of data being acquired; (5) ways to enhance the quality, usefulness, and clarity of the collected information; and (6) ways that the burden could be minimized without reducing the quality of the collected information. The agency will summarize and/or include your comments in the request for OMB's clearance of this information collection.

Authority: The Paperwork Reduction Act of 1995; 44 U.S.C. Chapter 35, as amended; and 49 CFR 1.48.

Issued on: November 13, 2019.
Michael Howell,
Information Collection Officer, Federal Highway Administration.

[FR Doc. 2019-24891 Filed 11-15-19; 8:45 am]

BILLING CODE 4910-22-P